DEPARTMENT OF AGRICULTURE

Forest Service

Shoshone Resource Advisory Committee

AGENCY: Forest Service, USDA.

ACTION: Notice of meeting.

SUMMARY: The Shoshone Resource Advisory Committee will meet in Thermopolis, Wyoming. The committee is meeting as authorized under the Secure Rural Schools and Community Self-Determination Act (Pub. L. 110-343) and in compliance with the Federal Advisory Committee Act. The purpose of the meeting is to convene the newly formed committee. The agenda includes dissemination of information on the responsibilities of the committee members and others involved.

DATES: The meeting will be held September 29, 2010, 9 a.m.

ADDRESSES: The meeting will be held at Big Horn Federal Savings, 643 Broadway, Thermopolis, WY. Written comments should be sent to Olga Troxel, Shoshone National Forest, 808 Meadow Lane, Cody, WY 82414. Comments may also be sent via e-mail to otroxel@fsfed.us, or via facsimile to 307-578-5112. All comments, including names and addresses when provided, are placed in the record and are available for public inspection and copying. The public may inspect comments received at Shoshone National Forest, 808 Meadow Lane, Cody, WY 82414. Visitors are encouraged to call ahead to 307-527-6241 to facilitate entry into the building.

FOR FURTHER INFORMATION CONTACT: Rick Metzger, Desginated Federal Officer, USDA, Shoshone National Forest, Wind River Ranger District, 1403 W Ramshorn, Dubois, WY 82513; (307) 455-3866; rmetzger@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel. (2) Background information on the Secure Rural Schools and Community Self-Determination Act. (3) Development of a draft RAC Charter (4) Selection of a chairperson by the committee members. (5) Public Comment. Persons who wish to bring related matters to the attention of the Committee may file written statements with the Committee staff before or after the meeting.

Dated: September 2, 2010.
Dad M. Peal,
Acting Forest Supervisor.

[FR Doc. 2010-22693 Filed 9-10-10; 8:45 am]

BILLING CODE 3410-11-M